DEPARTMENT OF JUSTICE

Antitrust Division

Notice Pursuant to the National Cooperative Research and Production Act of 1993—Countering Weapons of Mass Destruction Consortium

Notice is hereby given that, on January 31, 2018, pursuant to Section 6(a) of the National Cooperative Research and Production Act of 1993, 15 U.S.C. 4301 et seq. (“the Act”), Countering Weapons of Mass Destruction Consortium (“CWMD Consortium”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties are: 908 Devices Inc., Boston, MA; AeroClave, LLC, Winter Park, FL; Alakai Defense Systems, Inc., Largo, FL; Alion Science and Technology, Burr Ridge, IL; Applied Research Associates (ARA), Albuquerque, NM; APTIM Federal Services, LLC, Alexandria, VA; Arete Associates, Northridge, CA; Avon, Protection Systems, Inc., Belcamp, MD; Battelle Memorial Institute, Columbus, OH; Bill Baugh Associates, LLC, Millersville, MD; Blue Force Consulting, Westminster, MD; Booz Allen Hamilton, McLean, VA; Brimrose Technology Corp. Sparks, MD; Broadway Analytical, LLC, Monmouth, IL; Bruker Detection Corporation, Billerica, MA; Celina Tent Incorporated, Celina, OH; ChemImage Sensor Systems, Pittsburgh, PA; Chemring Sensors and Electronic Systems, Inc. Charlotte, NC; CogniTech Corporation, Salt Lake City, UT; Corvid Technologies, Mooresville, NC; Creare, LLC, Hanover, NH; D. Wheatley Enterprises, Inc., Belcamp, MD; DCS Corporation, Alexandria, VA; Defense Architecture Systems (DAS), Oxon Hill, MD; Domenix Corporation dba Relevant Technology, Chantilly, VA; Dynamis, Inc., Fairfax, VA; DynPort Vaccine Company LLC, a CSRA Company, Frederick, MD; El Dorado Engineering Inc., West Jordan, UT; ENSCO, Inc., Falls Church, VA; EOIR Technologies, Inc., Aberdeen Proving Ground, MD; Excet, Inc., Springfield, VA; EZ-A Consulting, LLC, Bel Air, MD; Federal Fabrics-Fibers, Lowell, MA; Federal Resources Supply, Stevensville, MD; First Line Technology, Chantilly, VA; FLIR Detection, Inc., Stillwater, OK; FORSUGO Hi-Cell, Inc., Marrero, LA; Georgia Tech Applied Research Corporation, Atlanta, GA; GeoVax, Inc., Smyrna, GA; Guild Associates, Inc., Dublin, OH; Hamilton Sundstrand Corp, UTC Aerospace Systems (UTAS), Pomona, CA; HDT Expeditionary Systems, Inc., Fredericksburg, VA; Immediate Response Technologies DBA AirBoss Defense, Landover, MD; Innovative Emergency Management, Inc. (IEM), Morrisville, NC; Integrity Consulting Engineering and Security Solutions (ICESS), Purcellville, VA; Intelagard, Lafayette, CO; Intelligent Optical Systems, Inc., Torrance, CA; Intelligent System Support, Austin, TX; INTUITIVE, Huntsville, AL; IS4S (Integrated Systems for Solutions), Huntsville, AL; iSense, LLC, Mountain View, CA; ITL LLC DBA ITL Solutions, Hampton, VA; JGW Group, Reston, VA; Joint Research and Development (JRAD), Belcamp, MD; Kiple Acquisition Science Technology Logistics & Engineering, Inc. (KASTLE), Forest Hill, MD; Knowledge Based Systems (KBSI), College Station, TX; Lealaps Consulting, LLC, Arlington, VA; Leidos, Inc., Abingdon, MD; Management Services Group, Inc., dba Global Technical Systems, Virginia Beach, VA; Mapp Biopharmaceuticals, Inc., San Diego, CA; MaXentric Technologies, LLC, Fort Lee, NJ; MESH, Inc., Oxford, PA; Microcosm, Torrance, CA; MQM Solutions, Inc., Cleveland, OH; Murtech, Inc., Glen Burnie, MD; National Strategic Research Institute (NSRI), Omaha, NE; North Carolina A & T (NC A&T), Greensboro, NC; Offset Strategic Services, Fayetteville, TN; Patricio Enterprises, Inc., Stafford, VA; Pendar Technologies, LLC, Cambridge, MA; Production Products Mfg. & Sales Co., Inc., St Louis, MO; QuickFlex, Inc., San Antonio, TX; QuickSilver Analytics, Inc., Hampstead, NC; Rigaku Analytical Devices, Inc., Wilmington, MA; SAAB Defense and Security, East Syracuse, NY; SciTech Services, Inc., Havre de Grace, MD; Scott Technologies, Monroe, NC; Signature Science, LLC, Austin, TX; SigNet Technologies, Cary, NC; Smiths Detection Inc., Edgewood, MD; Southwest Research Institute (SWRI), San Antonio, TX; Spectral Sensor Solutions, LLC, Herndon, VA; Streamline Automation, Huntsville, AL; Synertex, LLC, Purcellville, VA; T2S, LLC, Belcamp, MD; Tennessee Apparel Corp., Tullahoma, CO; Terminal Horizon Operations and Resourcing (THOR), St Petersburg, FL; The Tauri Group, Inc., Alexandria, VA; TIAX LLC, Lexington, MA; Universal Stabilization Technologies, Inc., San Diego, CA; University of Florida, Gainesville, FL; URS Federal Services, Inc., an AECOM Company, Germantown, MD; UTS Systems LLC, Fort Walton Beach, FL; Vaporsens, Inc., Salt Lake City, UT; Veterans Corps of America (VCA), O'Fallon, IL; Vibratess, LLC., Charlottesville, VA.

The general area of the CWMD Consortium's planned activity is facilitating the provision of technologies related to research, development, acquisition, fielding and life-cycle support for the following (non-inclusive) capability areas: CBRNE counter-proliferation, nonproliferation, and defense equipment; Installation and force protection; Command, control, communications, computers, intelligence, surveillance, and reconnaissance (C4ISR) systems for WMD detection, localization, identification, and tracking and CBRNE response operations; Technologies that support the find, fix, finish, exploit, analyze, and disseminate (F3EAD) process; Preparing for and combatting improvised threats and the improvised explosive device network; WMD precursor, agent, and device defeat or neutralization; Ensuring nuclear deterrence; Manned and unmanned platforms capable of supporting CWMD operations; Technologies that enhance the effectiveness of forces that are tasked to conduct CWMD operations; and Other operations related to the CWMD mission.

Patricia A. Brink,
Director of Civil Enforcement, Antitrust Division.

[FR Doc. 2018-04838 Filed 3-9-18; 8:45 am]

BILLING CODE 4410-11-P